DEPARTMENT OF HEALTH AND HUMAN SERVICES

National Institutes of Health

Center for Scientific Review; Amended Notice of Meeting

Notice is hereby given of a change in the meeting of the Center for Scientific Review Special Emphasis Panel, November 2, 2008, 8 a.m., to November 3, 2008, 5 p.m., Catamaran Resort Hotel, 3999 Mission Boulevard, San Diego, CA 92109, which was published in the Federal Register on October 7, 2008, 73 FR 58606-58608.

The starting time of the meeting on November 2, 2008, has been changed to 5 p.m. until adjournment on November 3, 2008. The meeting is closed to the public.

Dated: October 22, 2008.
Jennifer Spaeth,
Director, Office of Federal Advisory Committee Policy.

[FR Doc. E8-25710 Filed 10-27-08; 8:45 am]

BILLING CODE 4140-01-M